ELECTION ASSISTANCE COMMISSION

Publication of State Plans Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plans previously submitted by Montana, Nevada, and South Carolina.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual States at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254 (a)(11) through (13). HAVA sections 254(a)(11)(A) and 255 require EAC to publish such updates.

The submissions from Montana, Nevada, and South Carolina address material changes in the administration of their previously submitted State plans and, in accordance with HAVA section 254(a)(12), provide information on how the State succeeded in carrying out the previous State plan. Montana is submitting a revised budget to address how the State plans to use its 2004 requirements payment. The State also references adjustments to voter education programs, to programs providing access to voters with disabilities, to provisional voting and voter identification processes, and to voting system requirements. Nevada and South Carolina are submitting revised budgets to account for the shortfall in the amount of requirements payments received. Montana's submission is the first amendment to the State's original plan. Nevada and South Carolina had filed amended State plans that were published in the Federal Register on September 30, 2004. 69 FR 58630.

Upon the expiration of thirty days from August 25, 2005, these States will be eligible to implement any material changes addressed in the plans that are published herein, in accordance with HAVA section 254(a)(11)(C). At that time, in accordance with HAVA section 253(d), Montana also may file a statement of certification to obtain a fiscal year 2004 requirements payment. This statement of certification must confirm that the State is in compliance with all of the requirements referred to in HAVA section 253(b) and must be provided to the Election Assistance Commission in order for the State to receive a requirements payment under HAVA Title II, Subtitle D.

EAC notes that the plans published herein have already met the notice and comment requirements of HAVA section 256, as required by HAVA section 254(a)(11)(B). EAC wishes to acknowledge the effort that went into the revising the State plans and encourages further public comment, in writing, to the State election official of the individual States listed below.

Thank you for your interest in improving the voting process in America.

Chief State Election Officials

Montana

The Honorable Brad Johnson, Secretary of State, P.O. Box 202801, Helena, MT 59620-2801, Phone: 406-444-4732, Fax: 406-444-2023, Email: soselection@state.mt.us.

Nevada

The Honorable Dean Heller, Secretary of State, 101 N. Carson Street, Suite 3, Carson City, NV 89701, Phone: 775-684-5705, Fax: 775-684-5718, Email: nvelect@sos.nv.gov.

South Carolina

Ms. Marci Andino, Executive Director, State Election Commission, P.O. Box 5987, Columbia, SC 29250-5987, Phone: 803-734-9060, Fax: 803-734-8366, E-mail: elections@elections.sc.gov.

Dated: August 17, 2005.
Gracia M. Hillman,
Chair, U.S. Election Assistance Commission.

BILLING CODE 6820-KF-U

[FR Doc. 05-16634 Filed 8-24-05; 8:45 am]

BILLING CODE 6820-KF-C